POSTAL SERVICE

Temporary Emergency Committee of the Board of Governors; Sunshine Act Meeting

DATES AND TIMES: Thursday, May 12, 2016, at 10:30 a.m.

PLACE: Las Vegas, Nevada.

STATUS: Closed.

MATTERS TO BE CONSIDERED:

Thursday, May 12, 2016, at 10:30 a.m.

1. Strategic Issues.

2. Pricing.

3. Financial Matters.

4. Personnel Matters and Compensation Issues.

5. Executive Session—Discussion of prior agenda items.

GENERAL COUNSEL CERTIFICATION: The General Counsel of the United States Postal Service has certified that the meeting may be closed under the Government in the Sunshine Act.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2016-10639 Filed 5-3-16; 11:15 am]

BILLING CODE 7710-12-P